TENNESSEE VALLEY AUTHORITY

Sunshine Act Meetings

TIME AND DATE: 9:00 a.m. CT on November 6, 2025.

PLACE: Oxford Conference Center, Oxford, Mississippi.

STATUS: Open.

MATTERS TO BE CONSIDERED:

Meeting No. 25-04

The TVA Board of Directors will hold a public meeting on November 6 at the Oxford Conference Center, 102 Ed Perry Boulevard, in Oxford, Mississippi. The meeting will be called to order at 9:00 a.m. CT to consider the agenda items listed below. While the Board currently lacks a quorum, it is anticipated that the Board will take an action in accordance with Section 1.6 of its Bylaws.

On November 5, at the Oxford Conference Center, the public may comment on any agenda item or subject at a Board-hosted public listening session which begins at 2:00 p.m. CT and will last until 4:00 p.m. Preregistration is required to address the Board.

Agenda

1. Approval of Minutes of the August 21, 2025 Board Meeting

2. Report of the People and Governance Committee

A. Performance and Compensation

3. Report of the Audit, Risk, and Cybersecurity Committee

4. Report of the Operations and Nuclear Oversight Committee

5. Report of the External Stakeholders and Regulation Committee

6. Report of the Finance, Rates, and Portfolio Committee

A. Battery Options to Support TVA Capacity Needs

7. Report from President and CEO

CONTACT PERSON FOR MORE INFORMATION: For more information: Please contact Melissa Greene, TVA Media Relations at (865) 632-6000, Knoxville, Tennessee. Anyone who wishes to comment on any of the agenda in writing may send their comments to: TVA Board of Directors, Board Agenda Comments, 400 West Summit Hill Drive, Knoxville, Tennessee 37902.

Dated: October 30, 2025.
Edward C. Meade,
Agency Liaison.

[FR Doc. 2025-20362 Filed 11-17-25; 4:15 pm]

BILLING CODE 8120-08-P